NATIONAL SCIENCE FOUNDATION

Notice of Permit Modification Received Under the Antarctic Conservation Act of 1978

AGENCY: National Science Foundation.

ACTION: Notice of permit modification request received and permit issued.

SUMMARY: The National Science Foundation (NSF) is required to publish a notice of requests to modify permits issued to conduct activities regulated and permits issued under the Antarctic Conservation Act of 1978. NSF has published regulations under the Antarctic Conservation Act in the Code of Federal Regulations. This is the required notice of a requested permit modification and permit issued.

FOR FURTHER INFORMATION CONTACT: Nature McGinn, ACA Permit Officer, Office of Polar Programs, National Science Foundation, 2415 Eisenhower Avenue, Alexandria, VA 22314; 703-292-8224; email: ACApermits@nsf.gov.

SUPPLEMENTARY INFORMATION: The National Science Foundation (NSF), as directed by the Antarctic Conservation Act of 1978 (Pub. L. 95-541, 45 CFR 671), as amended by the Antarctic Science, Tourism and Conservation Act of 1996, has developed regulations for the establishment of a permit system for various activities in Antarctica and designation of certain animals and certain geographic areas a requiring special protection.

NSF issued a permit (ACA 2016-020) to Laura K.O. Smith, Owner, Operator Quixote Expeditions, on December 23, 2015. The issued permit allows the permit holder to conduct waste management activities associated with the operation of the “Ocean Tramp,” a reinforced ketch rigged sailing yacht in the Antarctic Peninsula region. Activities to be conducted by Quixote include: Passenger landings, hiking, photography, wildlife viewing, and possible station visits.

A modification to this permit, dated November 22, 2017, permitted coastal camping activities in select locations and resupply of fresh food to the Quixote Expeditions vessel as part of fly/cruise operations. Another modification, dated November 6, 2018, allowed the permit holder to add a second vessel to support Quixote Expeditions activities, to conduct ship-to-ship fuel transfers, to release comminuted food waste (excepting poultry) at sea, and to operate a remotely piloted aircraft for educational and commercial purposes. A recent modification to this permit, dated November 20, 2019, permitted the conduct waste management activities similar to prior seasons during the 2019-2020 field season.

On September 17, 2020, the permit holder submitted an update of provided NSF an update based on planned activities for the 2020-2021 field season and to request an extension of the permit expiration date. Quixote's proposed activities are similar as those detailed in the original permit and earlier modifications. The Environmental Officer has reviewed the modification request and has determined that the amendment is not a material change to the permit, and it will have a less than a minor or transitory impact.

Dates of Permitted Activities: September 23, 2020-March 30, 2021.

The permit modification was issued on September 23, 2020.

Erika N. Davis,
Program Specialist, Office of Polar Programs.

[FR Doc. 2020-21502 Filed 9-28-20; 8:45 am]

BILLING CODE 7555-01-P